DEPARTMENT OF TRANSPORTATION

Federal Motor Carrier Safety Administration

[Docket No. FMCSA-2017-0374]

Commercial Driver's License Standards; Commercial Vehicle Training Association's Exemption Application for States To Facilitate the Issuance of Licensing Documents to Citizens of Puerto Rico

AGENCY: Federal Motor Carrier Safety Administration (FMCSA), DOT.

ACTION: Notice of exemption application; request for public comment.

SUMMARY: FMCSA announces that it has received an application from the Commercial Vehicle Training Association (CVTA) on behalf of the States for an exemption from concerning proof of U.S. citizenship or lawful permanent residence, and concerning proof that the State to which the application is made is the applicant's State of domicile, to enable State driver licensing agencies (SDLAs) to accept commercial learner's permit (CLP) and commercial driver's license (CDL) applications from individuals relocating from Puerto Rico. The CVTA explained that it is seeking the exemption to assist citizens of Puerto Rico relocating from the U.S. territory to any of the States in the aftermath of Hurricane Irma. Through this exemption the SDLA would be allowed to follow the Department of Homeland Security's exception process for persons who, for reasons beyond their control, are unable to present all necessary documents and must rely on alternate documents to establish identity. A CLP document issued under this exemption must be limited to 90 days' validity and is subject to the applicant being actively enrolled in a CDL training school within that State. A CDL document issued under this exemption must be limited to six months' validity, at which time the individual would be required to provide proof that the State that issued the CDL is his/her State of domicile. All other requirements must be satisfied upon initial issuance of the CLP or CDL. Elsewhere in today's issue of the Federal Register, the Agency has granted a limited 90-day waiver to provide the States with this flexibility in the short-term while the exemption is under consideration.

DATES: Comments must be submitted no later than March 22, 2018.

ADDRESSES: You may submit comments identified by Federal Docket Management System (FDMS) Number FMCSA-2017-0374 by any of the following methods:

• Federal eRulemaking Portal: www.regulations.gov. See the Public Participation and Request for Comments section below for further information.

• Mail: Docket Management Facility, U.S. Department of Transportation, 1200 New Jersey Avenue SE, West Building, Ground Floor, Room W12-140, Washington, DC 20590-0001.

• Hand Delivery or Courier: West Building, Ground Floor, Room W12-140, 1200 New Jersey Avenue SE, between 9 a.m. and 5 p.m., Monday through Friday, except Federal holidays.

• Fax: 1-202-493-2251.

• Each submission must include the Agency name and the docket number for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE, Washington, DC, between 9 a.m. and 5 p.m., ET, Monday through Friday, except Federal holidays. The on-line FDMS is available 24 hours each day, 365 days each year.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Ms. Nikki McDavid, Chief of the Commercial Driver's License Division, Office of Safety Programs, 202-366-0831, Federal Motor Carrier Safety Administration, 1200 New Jersey Avenue SE, Washington, DC 20590-0001.

SUPPLEMENTARY INFORMATION:

Public Participation and Request for Comments

FMCSA encourages you to participate by submitting comments and related materials.

Submitting Comments

If you submit a comment, please include the docket number for this notice (FMCSA-2017-0374), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comments online, go to www.regulations.gov and put the docket number, “FMCSA-2017-0374” in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period and may grant or not grant this application based on your comments.

Legal Basis

FMCSA has authority under 49 U.S.C. 31136(e) and 31315 to grant exemptions from certain parts of the Federal Motor Carrier Safety Regulations (FMCSRs). FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted, and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

The Administrator of FMCSA has been delegated authority under 49 CFR 1.73(g) to carry out the functions vested in the Secretary by 49 U.S.C. chapter 311, subchapters I and III, relating to commercial motor vehicle programs and safety regulation.

Background

Currently, FMCSA requires individuals seeking a CDL to provide to the State proof of citizenship or lawful permanent residency. The FMCSRs include a list of acceptable documents States may accept as proof of citizenship or lawful permanent residency (see Table 1 to 49 CFR 383.71). FMCSA also requires each person to provide proof that the State to which the CDL application is submitted is his/her State of domicile.

CVTA's Request

The CVTA requested relief from FMCSA's CDL requirements concerning proof of U.S. citizenship and domicile in the State that issues the commercial learner's permit (CLP) or commercial driver's license (CDL) to enable citizens of Puerto Rico who seek training at commercial driving schools in any of the 50 States or the District of Columbia. In the aftermath of Hurricane Irma, a number of residents of Puerto Rico have or will soon relocate from the U.S. Territory to one of the States. Some of these residents of Puerto Rico may wish to pursue a career as a commercial motor vehicle driver upon arrival in any of the States.

The CVTA requests that FMCSA provide an exemption allowing the SDLAs the same flexibility that the DHS provides in its Real ID rules (see 6 CFR 37.11(h)), when, for reasons beyond their control, an applicant for a Real ID is unable to present necessary documents and must rely on alternate methods to establish identity. The CVTA also requests that FMCSA provide an exemption allowing CLP candidates to provide a temporary address for the purposes of obtaining the CLP and CDL. The organization suggests that States limit the duration of the CDL document to 6 months before it must be renewed and require a long-term or permanent address, at that time. CVTA argues that the limitations of the exemption would achieve the requisite level of safety by preventing individuals from maintaining a CDL with no known permanent address. A copy of the CVTA's request is included in the docket identified at the beginning of this notice.

Issued on: February 9, 2018.
Larry W. Minor,
Associate Administrator for Policy.

[FR Doc. 2018-03363 Filed 2-16-18; 8:45 am]

BILLING CODE 4910-EX-P